SECURITIES AND EXCHANGE COMMISSION

Sunshine Act Meeting

Federal Register Citation Of Previous Announcement: [To be Published].

Status: Closed Meeting.

Place: 100 F Street, NE., Washington, DC.

Date And Time Of Previously Announced Meeting: Wednesday, March 21, 2007 at 2 p.m.

Change In The Meeting: Time Change.

The Closed Meeting scheduled for Wednesday, March 21, 2007 at 2 p.m. has been changed to Wednesday, March 21, 2007 at 1 p.m.

At times, changes in Commission priorities require alterations in the scheduling of meeting items. For further information and to ascertain what, if any, matters have been added, deleted or postponed, please contact the Office of the Secretary at (202) 551-5400.

Dated: March 16, 2007.
Florence E. Harmon,
Deputy Secretary.

[FR Doc. E7-5131 Filed 3-20-07; 8:45 am]

BILLING CODE 8010-01-P